FEDERAL COMMUNICATIONS COMMISSION

47 CFR Part 90

[WT Docket No. 99-87; RM-9332; FCC 04-292]

Implementation of Sections 309(j) and 337 of the Communications Act of 1934 as Amended; Promotion of Spectrum Efficient Technologies on Certain Part 90 Frequencies

AGENCY: Federal Communications Commission.

ACTION: Final rule; lifting of stay.

SUMMARY: In this document the Commission addresses eighteen petitions for reconsideration of the rules adopted in the Second Report and Order in this proceeding to promote migration to narrowband (12.5 kHz) technology in the Private Land Mobile Radio (PLMR) services. In addition, we stay the January 1, 2005 date pending resolution of the issues raised in the Third Further Notice of Proposed Rulemaking published elsewhere in this issue. This document also lifts the stay of 47 CFR 90.209(b)(6).

DATES: The stay of § 90.209(b)(6) is lifted effective July 15, 2005, and the amendments are effective July 15, 2005.

FOR FURTHER INFORMATION CONTACT: Zenji Nakazawa, Zenji.Nakazawa@fcc.gov, Public Safety and Critical Infrastructure Division, Wireless Telecommunications Bureau, (202) 418-0680, TTY (202) 418-7233.

SUPPLEMENTARY INFORMATION: This is a summary of the Federal Communications Commission's Order, FCC 04-292, adopted on December 20, 2004, and released on December 23, 2004. The full text of this document is available for inspection and copying during normal business hours in the FCC Reference Center, 445 12th Street, SW., Washington, DC 20554. The complete text may be purchased from the FCC's copy contractor, Best Copy and Printing, Inc., 445 12th Street, SW., Room CY-B402, Washington, DC 20554. The full text may also be downloaded at: http://www.fcc.gov. Alternative formats are available to persons with disabilities by contacting Brian Millin at (202) 418-7426 or TTY (202) 418-7365 or at bmillin@fcc.gov.

1. The major decisions in the Third Memorandum Opinion and Order are as follows:

• For licensees in the Industrial/Business Radio Pool operating in the 150-174 MHz and 421-512 MHz bands, we affirm the Second Report and Order's (68 FR 42296, July 17, 2003) January 1, 2013 deadline for migration to 12.5 kHz technology, or a technology that achieves the narrowband equivalent of one channel per 12.5 kHz of channel bandwidth (voice) or 4800 bits per second per 6.25 kHz (data) if the bandwidth for transmissions specified in the modification application is greater than 12.5 kHz.

• For Public Safety Radio Pool licensees operating PLMR services in the same bands, we also establish a January 1, 2013 deadline for migration to 12.5 kHz technology, or a technology that achieves the narrowband equivalent of one channel per 12.5 kHz of channel bandwidth (voice) or 4800 bits per second per 6.25 kHz (data) if the bandwidth for transmissions specified in the modification application is greater than 12.5 kHz.

2. We revise the interim dates established in the Second Report and Order as follows:

• Applications for new operations using 25 kHz channels will be accepted until January 1, 2011. After January 1, 2011, applications for new operations using a bandwidth greater than 12.5 kHz will be accepted only to the extent that the equipment meets the spectrum efficiency standard of one channel per 12.5 kHz of channel bandwidth (voice) or 4800 bits per second per 6.25 kHz (data).

• Applications for modification of operations that expand the authorized contour of an existing station using 25 kHz channels will be accepted until January 1, 2011. After January 1, 2011, applications for modification of operations that expand the authorized contour of an existing station will be accepted only to the extent that the equipment meets the spectrum efficiency standard of one channel per 12.5 kHz of channel bandwidth (voice) or 4800 bits per second per 6.25 kHz (data) if the bandwidth for transmissions specified in the modification application is greater than 12.5 kHz.

• Manufacture and importation of any 150-174 MHz and 421-512 MHz band equipment operating on a channel bandwidth up to 25 kHz will be permitted until January 1, 2011. After January 1, 2011, manufacture and importation of any 150-174 MHz and 421-512 MHz band equipment operating on a channel bandwidth greater than 12.5 kHz will be accepted only to the extent that the equipment meets the spectrum efficiency standard of one channel per 12.5 kHz of channel bandwidth (voice) or 4800 bits per second per 6.25 kHz (data).

3. We revise our rules to permit applications for certification of equipment received on or after January 1, 2005 operating with a 25 kHz bandwidth, to the extent that the equipment meets the spectrum efficiency standard of one channel per 6.25 kHz of channel bandwidth (voice) or 4800 bits per second per 6.25 kHz (data). However, we stay the January 1, 2005 deadline with respect to certification of equipment in the Order, pending resolution of the issues raised in the Third Further Notice of Proposed Rulemaking.

4. We revise our rules to exempt part 90 paging-only frequencies from the narrowbanding requirements.

5. For Commission licensees operating in the Federal Government bands 150.05-150.8 MHz, 162.0125-173.2 MHz, and 173.4-174 MHz, we recognize that a separate ongoing proceeding—ET Docket No. 04-243—is addressing whether different narrowbanding requirements are needed to account for the Federal Government's own narrowbanding plans in those bands. Accordingly, we recognize that the decisions we adopt herein are subject to further modification with respect to those bands and defer decisions with respect to those bands where appropriate.

I. Procedural Matters

A. Paperwork Reduction Act

6. The Order does not contain any new or modified information collection.

B. Regulatory Flexibility Act Analyses

7. As required by the Regulatory Flexibility Act (RFA), see 5 U.S.C. 604, the Commission has prepared a Supplemental Final Regulatory Flexibility Analysis of the possible impact of the rule changes contained in this Third Memorandum Opinion and Order small entities. The Supplemental Final Regulatory Flexibility Act analysis is set forth below. The Commission's Consumer Information Bureau, Reference Information Center, will send a copy of this Third Memorandum Opinion and Order, Third Further Notice and Order, including the Final Regulatory Flexibility Act Analyses, to the Chief Counsel for Advocacy of the Small Business Administration.

C. Report to Congress

8. The Commission will send a copy of this Third Memorandum Opinion and Order, Third Further Notice and Order in a report to be sent to Congress and the General Accounting Office pursuant to the Congressional Review Act, see 5 U.S.C. 801(a)(1)(A).

II. Supplemental Final Regulatory Flexibility Analysis

9. As required by the Regulatory Flexibility Act (RFA), a Final Regulatory Flexibility Analysis (RFA) was incorporated in the Second Report and Order and Second Further Notice of Proposed Rule Making (Second R&O and Second Further Notice) in WT Docket 99-87. The Commission sought written public comment on the proposals in the Second Further Notice of Proposed Rule Making. In view of the fact that we have adopted further rule amendments in this Third Memorandum Opinion and Order, we have included this Supplemental Final Regulatory Flexibility Analysis (SFRFA). This Supplemental Final Regulatory Flexibility Analysis (SFRFA) conforms to the RFA.

Need for and Objectives of the Order

10. The Third Memorandum Opinion and Order adopts rules to promote the transition to narrowband technology in bands 150-174 MHz and 421-512 MHz. Specifically, we amend our rules to impose a deadline for migration to 12.5 kHz technology for both Public Safety Radio Pool and Industrial/Business Radio Pool licensees operating Private Land Mobile Radio Service (PLMRS) systems on those bands, beginning January 1, 2013. In addition, we amend our rules to prohibit the certification of any equipment capable of operating at one voice path per 25 kHz of spectrum, i.e., multi-mode equipment that includes a 25 kHz mode, beginning January 1, 2011. We also prohibit the manufacture and importation of 25 kHz equipment (including multi-mode equipment that can operate on a 25 kHz bandwidth) beginning January 1, 2011. We will permit all licensees operating on these bands to modify existing systems, including modifications that expand coverage area, with 25 kHz equipment until January 1, 2011. No later than December 31, 2009 the Commission will issue a Public Notice of the impending January 1, 2011 deadline for filing new applications and modifications of any systems utilizing 25 kHz channels. This notice will also inform the public of the frequency coordinators cutoff date for accepting said applications. The Public Notice will also serve as a reminder that all Public Safety Radio Pool and Industrial/Business Radio Pool licensees are required to migrate to 12.5 kHz by January 1, 2013. These actions will effect a transition to a narrowband channel plan. The resulting gain in efficiency will ease congestion on the PLMRS channels in these bands.

Summary of Significant Issues Raised by Public Comments in Response to the FRFA

11. No comments or reply comments were filed in direct response to the FRFA. The Commission has, however, reviewed the general comments that may impact small businesses. Much of the potential impact on small businesses arises from the mandatory migration to 12.5 kHz technology beginning on January 1, 2011, the ban on importation and manufacture of 25 kHz equipment after January 1, 2011 and the freeze on new 25 kHz applications. The costs associated with replacement of current systems were cited in opposition to mandatory conversion proposals.

Description and Estimate of the Number of Small Entities to Which the Rules Apply

12. The RFA directs agencies to provide a description of and, where feasible, an estimate of the number of small entities that may be affected by the rules adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations.

13. The rule changes effectuated by this Third Memorandum Opinion and Order apply to licensees and applicants of private land mobile frequencies in the 150-174 MHz and 421-512 MHz bands, and to manufacturers of radio equipment.

14. Private Land Mobile Radio (PLMR). PLMR systems serve an essential role in a vast range of industrial, business, land transportation and public service activities. These radios are used by companies of all sizes that operate in all U.S. business categories. Because of the vast array of PLMR users, the Commission had not developed, nor would it be possible to develop, a definition of small entities specifically applicable to PLMR users. For the purpose of determining whether a licensee is a small business as defined by the Small Business Administration (SBA), each licensee would need to be evaluated within its own business area. The Commission's fiscal year 1994 annual report indicates that, at the end of fiscal year 1994, there were 1,087,276 licensees operating 12,481,989 transmitters in the PLMR bands below 512 MHz. Further, because any entity engaged in a commercial activity is eligible to hold a PLMR license, these rules could potentially impact every small business in the U.S.

15. Public Safety. Public Safety Radio Pool services include police, fire, local governments, forestry conservation, highway maintenance, and emergency medical services. The SBA rules contain a definition for small radiotelephone (wireless) companies, which encompass business entities engaged in radiotelephone communications employing no more that 1,500 persons. There are a total of approximately 127,540 licensees within these services. Governmental entities as well as private businesses comprise the licensees for these services. The RFA also includes small governmental entities as a part of the regulatory flexibility analysis. “Small governmental jurisdiction” generally means “governments of cities, counties, towns, townships, villages, school districts, or special districts, with a population of less than 50,000.” As of 1992, there were approximately 85,006 such jurisdictions in the United States. This number includes 38,978 counties, cities and towns; of these, 37,566, or 96 percent, have populations of fewer than 50,000. The Census Bureau estimates that this ratio is approximately accurate for all governmental entities. Thus, of the 85,006 governmental entities, the Commission estimates that 81,600 (96 percent) are small entities.

16. Equipment Manufacturers. We anticipate that at least six radio equipment manufacturers will be affected by our decisions in this proceeding. According to the SBA's regulations, a radio and television broadcasting and communications equipment manufacturer must have 750 or fewer employees in order to qualify as a small business concern. Census Bureau data indicate that there are 858 U.S. firms that manufacture radio and television broadcasting and communications equipment, and that 778 of these firms have fewer than 750 employees and would therefore be classified as small entities.

Description of Projected Reporting, Recordkeeping and Other Compliance Requirements

17. This Third Memorandum Opinion and Order adopts rules to promote the transition to narrowband technology for private land mobile licensees, in the 150-174 MHz and 421-512 MHz bands. In particular, applications for operations on 25 kHz equipment will be accepted until January 1, 2011. We will permit all licensees operating on these bands to modify existing systems, including modifications that expand coverage area, with 25 kHz equipment until January 1, 2011. No later than December 31, 2009 the Commission will issue a Public Notice of the impending January 1, 2011 deadline for filing new applications and modifications of any systems utilizing 25 kHz channels. This notice will also inform the public of the frequency coordinators cutoff date for accepting said applications. The Public Notice will also serve as a reminder that all Public Safety Radio Pool and Industrial/Business Radio Pool licensees are required to migrate to 12.5 kHz by January 1, 2013. Further, this Third Memorandum Opinion and Order amends our current rules to prohibit the importation or manufacture of 25 kHz-only equipment beginning on January 1, 2011. All equipment utilized on or after January 1, 2013 must utilize a maximum channel bandwidth of 12.5 kHz, or meet the narrowband efficiency standard of one channel per 6.25 kHz (voice) or 4800 bits per second per 6.25 kHz (data).

Steps Taken To Minimize Significant Economic Impact on Small Entities and Significant Alternatives Considered

18. The FRFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

19. The Commission adopted rules in this Third Memorandum Opinion and Order upon consideration of the economic burden on small businesses. For instance, many commenters supported adoption of rules that would require conversion of Industrial/Business Radio Pool licensees to 12.5 kHz equipment as early as January 1, 2008. Such a proposal fails to give any consideration to the amortization and life-span of current equipment and the resources available to small entities. Rather than require small business licensees to convert its system to 12.5 kHz or equivalent technology beginning on January 1, 2008, we retain our current rules governing mandatory migration to 12.5 kHz or equivalent technology until January 1, 2013 for Industrial/Business Radio Pool systems. Likewise, for Public Safety Radio Pool systems, many commenters supported adoption of rules that would require conversion of Public Safety Radio Pool systems to 12.5 kHz equipment as early as January 1, 2013. In recognizing the need for clarity and uniformity in a single final migration date, and in consideration of the development and readiness of public safety operators in general, we amend our rules to accelerate the mandatory migration to 12.5 kHz or equivalent technology to January 1, 2013 for INDUSTRIAL/Business Radio Pool PLMR systems. We rejected a phased approach that would have burdened licensees to determine which market and which date applied to them. We also rejected an approach that would assign different migration dates based on definitional concepts of urban or rural. Although we employ intermediary steps to promote migration to 12.5 kHz equipment, we believe that delaying the effective dates of these interim measures closer to the final migration date adopted herein will best facilitate a complete and seamless migration to 12.5 kHz narrowband equipment. We declined to initiate a plan at this time to mandate a further migration to narrowband equipment based on a 6.25 kHz standard as premature. Exemption from coverage of the rule changes for small businesses would frustrate the purpose of the rule, i.e., migration to more efficient spectrum use, and facilitate continued inefficient use of spectrum.

Report to Congress

20. The Commission will send a copy of this Third Memorandum Opinion and Order, Third Further Notice of Proposed Rule Making and Order, including this SFRFA, in a report to be sent to Congress pursuant to the Small Business Regulatory Enforcement Fairness Act of 1996, see 5 U.S.C. 801(a)(1) (A). In addition, the Commission will send a copy of the Third Memorandum Opinion and Order, Third Further Notice of Proposed Rule Making and Order, including this SFRFA, to the Chief Counsel for Advocacy of the Small Business Administration. A copy of the Third Memorandum Opinion and Order, Third Further Notice of Proposed Rule Making and Order and SFRFA (or summaries thereof) will also be published in the Federal Register. See 5 U.S.C. 604(b).

Federal Rules That May Duplicate, Overlap, or Conflict With the Proposed Rules

21. None.

III. Ordering Clauses

22. Pursuant to Sections 1, 2, 4(i), 301, 302, and 303 of the Communications Act of 1934, as amended, 47 U.S.C. 151, 152, 154(i), 301, 302, and 303, and §§ 1.421 and 1.425 of the Commission's rules, 47 CFR 1.421 and 1.425, it is ordered that the Third Memorandum Opinion and Order, Third Further Notice of Proposed Rule Making and Order is hereby adopted.

23. It is further ordered that parts 1 and 90 of the Commission's rules are amended as set forth in Appendix B, and that these rules shall be effective July 15, 2005.

24. It is further ordered that the stay of 47 CFR. 90.209(b)(6), see FCC 03-306, 69 FR 17959, April 6, 2004, shall expire July 15, 2005.

25. It is further ordered that the January 1, 2005, deadline in 47 CFR 90.203(j)(4) and (j)(5) is stayed effective upon the release of this Third Memorandum Opinion and Order, Third Further Notice of Proposed Rule Making and Order pending resolution of the Petition to Defer filed by Motorola, Inc., Kenwood U.S.A. Corporation, and EFJohnson Company, on July 24, 2004.

26. It is further ordered that the Commission's Consumer Information Bureau, Reference Information Center, shall send a copy of this Third Memorandum Opinion and Order, Third Further Notice of Proposed Rule Making and Order including the Initial and Final Regulatory Flexibility Analyses, to the Chief Counsel for Advocacy of the U.S. Small Business Administration.

List of Subjects in 47 CFR Part 90

Communications equipment, Radio, Reporting and recordkeeping requirements.

Federal Communications Commission.
Marlene H. Dortch,
Secretary.

Rule Changes

For the reasons discussed in the preamble, the Federal Communications Commission amends 47 CFR part 90 as follows:

PART 90—PRIVATE LAND MOBILE RADIO SERVICES

1. The authority citation for part 90 continues to read as follows:

Authority: Sections 4(i), 11, 303(g), 303(r) and 332(c)(7) of the Communications Act of 1934, as amended, 47 U.S.C. 154(i), 161, 303(g), 303(r), 332(c)(7).

2. Section 90.20 is amended by revising the following entries to the table in paragraph (c) and paragraphs (d)(27) and (d)(30) to read as follows:

§ 90.20 Public Safety Pool.

* * * * *

(c) * * *

(3) * * *

Public Safety Pool Frequency Table
Frequency or band | Class of station(s) | Limitations | Coordinator
* * * * * * *
150.7825 | ......do | 88 | PM
* * * * * * *
151.0025 | ......do | 27, 28 | PH
* * * * * * *
151.0325 | ......do | 27, 28 | PH
* * * * * * *
151.0475 | ......do | 27, 28 | PH
* * * * * * *
151.0625 | ......do | 27, 28 | PH
* * * * * * *
151.0775 | ......do | 27, 28 | PH
* * * * * * *
151.0925 | ......do | 27, 28 | PH
* * * * * * *
151.1075 | ......do | 27, 28 | PH
* * * * * * *
151.1225 | ......do | 27, 28 | PH
* * * * * * *
151.1375 | ......do | 27, 28, 80 | PH
* * * * * * *
151.1525 | ......do | 27, 28 | PO
* * * * * * *
151.1675 | ......do | 27, 28 | PO
* * * * * * *
151.1825 | ......do | 27, 28 | PO
* * * * * * *
151.1975 | ......do | 27, 28 | PO
* * * * * * *
151.2125 | ......do | 27, 28 | PO
* * * * * * *
151.2275 | ......do | 27, 28 | PO
* * * * * * *
151.2425 | ......do | 27, 28 | PO
* * * * * * *
151.2575 | ......do | 27, 28 | PO
* * * * * * *
151.2725 | ......do | 27, 28 | PO
* * * * * * *
151.2875 | ......do | 27, 28 | PO
* * * * * * *
151.3025 | ......do | 27, 28 | PO
* * * * * * *
151.3175 | ......do | 27, 28 | PO
* * * * * * *
151.3325 | ......do | 27, 28 | PO
* * * * * * *
151.3475 | ......do | 27, 28 | PO
* * * * * * *
151.3625 | ......do | 27, 28 | PO
* * * * * * *
151.3775 | ......do | 27, 28 | PO
* * * * * * *
151.3925 | ......do | 27, 28 | PO
* * * * * * *
151.4075 | ......do | 27, 28 | PO
* * * * * * *
151.4225 | ......do | 27, 28 | PO
* * * * * * *
151.4375 | ......do | 27, 28 | PO
* * * * * * *
151.4525 | ......do | 27, 28 | PO
* * * * * * *
151.4675 | ......do | 27, 28 | PO
* * * * * * *
151.4825 | ......do | 27, 28 | PO
* * * * * * *
151.4975 | ......do | 7, 27, 28 | PO
* * * * * * *
153.7475 | ......do | 27 | PX
* * * * * * *
153.7625 | ......do | 27 | PX
* * * * * * *
153.7775 | ......do | 27 | PF
* * * * * * *
153.7925 | ......do | 27 | PX
* * * * * * *
153.8075 | ......do | 27 | PX
* * * * * * *
153.8225 | ......do | 27 | PX
* * * * * * *
153.8375 | ......do | 27, 31 | PF
* * * * * * *
153.8525 | ......do | 27 | PX
* * * * * * *
153.8675 | ......do | 27 | PX
* * * * * * *
153.8825 | ......do | 27 | PX
* * * * * * *
153.8975 | ......do | 27 | PX
* * * * * * *
153.9125 | ......do | 27 | PX
* * * * * * *
153.9275 | ......do | 27 | PX
* * * * * * *
153.9425 | ......do | 27 | PX
* * * * * * *
153.9575 | ......do | 27 | PF
* * * * * * *
153.9725 | ......do | 27 | PX
* * * * * * *
153.9875 | ......do | 27 | PX
* * * * * * *
154.0025 | ......do | 27 | PX
* * * * * * *
154.0175 | ......do | 27 | PX
* * * * * * *
154.0325 | ......do | 27 | PX
* * * * * * *
154.0475 | ......do | 27, 28 | PX
* * * * * * *
154.0625 | ......do | 27, 28 | PX
* * * * * * *
154.0775 | ......do | 27, 28 | PF
* * * * * * *
154.0925 | ......do | 27, 28 | PX
* * * * * * *
154.1075 | ......do | 27, 28 | PX
* * * * * * *
154.1225 | ......do | 27, 28 | PX
* * * * * * *
154.1375 | ......do | 27, 28 | PF
* * * * * * *
154.1525 | ......do | 27, 28 | PF
* * * * * * *
154.1675 | ......do | 27, 28 | PF
* * * * * * *
154.1825 | ......do | 27, 28 | PF
* * * * * * *
154.1975 | ......do | 27, 28 | PF
* * * * * * *
154.2125 | ......do | 27, 28 | PF
* * * * * * *
154.2275 | ......do | 27, 28 | PF
* * * * * * *
154.2425 | ......do | 27, 28 | PF
* * * * * * *
154.2575 | ......do | 27, 28 | PF
* * * * * * *
154.2725 | ......do | 19, 27, 28 | PF
* * * * * * *
154.2875 | ......do | 19, 27, 28 | PF
* * * * * * *
154.3025 | ......do | 19, 27, 28 | PF
* * * * * * *
154.3175 | ......do | 27, 28 | PF
* * * * * * *
154.3325 | ......do | 27, 28 | PF
* * * * * * *
154.3475 | ......do | 27, 28 | PF
* * * * * * *
154.3625 | ......do | 27, 28 | PF
* * * * * * *
154.3775 | ......do | 27, 28 | PF
* * * * * * *
154.3925 | ......do | 27, 28 | PF
* * * * * * *
154.4075 | ......do | 27, 28 | PF
* * * * * * *
154.4225 | ......do | 27, 28 | PF
* * * * * * *
154.4375 | ......do | 27, 28 | PF
* * * * * * *
154.4525 | ......do | 27, 28, 80 | PF
* * * * * * *
154.6575 | ......do | 27 | PP
* * * * * * *
154.6725 | ......do | 16, 27 | PP
* * * * * * *
154.6875 | ......do | 16, 27 | PP
* * * * * * *
154.7025 | ......do | 16, 27 | PP
* * * * * * *
154.7175 | ......do | 27 | PP
* * * * * * *
154.7325 | ......do | 27 | PP
* * * * * * *
154.7475 | ......do | 27 | PP
* * * * * * *
154.7625 | ......do | 27 | PP
* * * * * * *
154.7775 | ......do | 27 | PP
* * * * * * *
154.7925 | ......do | 27 | PP
* * * * * * *
154.8075 | ......do | 27 | PP
* * * * * * *
154.8225 | ......do | 27 | PP
* * * * * * *
154.8375 | ......do | 27 | PP
* * * * * * *
154.8525 | ......do | 27 | PP
* * * * * * *
154.8675 | ......do | 27 | PP
* * * * * * *
154.8825 | ......do | 27 | PP
* * * * * * *
154.8975 | ......do | 27 | PP
* * * * * * *
154.9275 | ......do | 16, 27 | PP
* * * * * * *
154.9425 | ......do | 16, 27 | PP
* * * * * * *
154.9575 | ......do | 27 | PX
* * * * * * *
154.9725 | ......do | 27 | PX
* * * * * * *
154.9875 | ......do | 27 | PX
* * * * * * *
155.0025 | ......do | 27 | PX
* * * * * * *
155.0175 | ......do | 27 | PP
* * * * * * *
155.0325 | ......do | 27 | PX
* * * * * * *
155.0475 | ......do | 27 | PX
* * * * * * *
155.0625 | ......do | 27 | PX
* * * * * * *
155.0775 | ......do | 27 | PP
* * * * * * *
155.0925 | ......do | 27 | PX
* * * * * * *
155.1075 | ......do | 27 | PX
* * * * * * *
155.1225 | ......do | 27 | PX
* * * * * * *
155.1375 | ......do | 27 | PP
* * * * * * *
155.1525 | ......do | 27 | PX
* * * * * * *
155.1675 | ......do | 10, 27 | PS
* * * * * * *
155.1825 | ......do | 10, 27 | PS
* * * * * * *
155.1975 | ......do | 27 | PP
* * * * * * *
155.2125 | ......do | 10, 27 | PS
* * * * * * *
155.2275 | ......do | 10, 27 | PS
* * * * * * *
155.2425 | ......do | 10, 27 | PS
* * * * * * *
155.2575 | ......do | 27 | PP
* * * * * * *
155.2725 | ......do | 10, 27 | PS
* * * * * * *
155.2875 | ......do | 10, 27 | PS
* * * * * * *
155.3025 | ......do | 10, 27 | PSX
* * * * * * *
155.3175 | ......do | 27 | PP
* * * * * * *
155.3325 | ......do | 27, 38, 39 | PM
* * * * * * *
155.3475 | ......do | 27, 39, 40 | PM
* * * * * * *
155.3625 | ......do | 27, 39, 40 | PM
* * * * * * *
155.3775 | ......do | 27 | PP
* * * * * * *
155.3925 | ......do | 27, 38, 39 | PM
* * * * * * *
155.4075 | ......do | 27, 38, 39 | PM
* * * * * * *
155.4225 | ......do | 27 | PP
* * * * * * *
155.4375 | ......do | 27 | PP
* * * * * * *
155.4525 | ......do | 16, 27 | PP
* * * * * * *
155.4675 | ......do | 16,27 | PP
* * * * * * *
155.4825 | ......do | 27,41 | PP
* * * * * * *
155.4975 | ......do | 27 | PP
* * * * * * *
155.5125 | ......do | 16, 27 | PP
* * * * * * *
155.5275 | ......do | 27 | PP
* * * * * * *
155.5425 | ......do | 27 | PP
* * * * * * *
155.5575 | ......do | 27 | PP
* * * * * * *
155.5725 | ......do | 27 | PP
* * * * * * *
155.5875 | ......do | 27 | PP
* * * * * * *
155.6025 | ......do | 27 | PP
* * * * * * *
155.6175 | ......do | 27 | PP
* * * * * * * | ......do | 27 | PP
155.6325 | ......do | 27 | PP
* * * * * * *
155.6475 | ......do | 27 | PP
* * * * * * *
155.6625 | ......do | 27 | PP
* * * * * * *
155.6775 | ......do | 27 | PP
* * * * * * *
155.6925 | ......do | 27 | PP
* * * * * * *
155.7075 | ......do | 27 | PP
* * * * * * *
155.7225 | ......do | 27 | PP
* * * * * * *
155.7375 | ......do | 27 | PP
* * * * * * *
155.7525 | ......do | 27, 80, 83 | PX
* * * * * * *
155.7675 | ......do | 27 | PX
* * * * * * *
155.7825 | ......do | 27 | PX
* * * * * * *
155.7975 | ......do | 27 | PP
* * * * * * *
155.8125 | ......do | 27 | PX
* * * * * * *
155.8275 | ......do | 27 | PX
* * * * * * *
155.8425 | ......do | 27 | PP
* * * * * * *
155.8575 | ......do | 27 | PX
* * * * * * *
155.8725 | ......do | 27 | PX
* * * * * * *
155.8875 | ......do | 27 | PX
* * * * * * *
155.9025 | ......do | 27 | PX
* * * * * * *
155.9175 | ......do | 27 | PP
* * * * * * *
155.9325 | ......do | 27 | PX
* * * * * * *
155.9475 | ......do | 27 | PX
* * * * * * *
155.9625 | ......do | 27 | PX
* * * * * * *
155.9775 | ......do | 27 | PP
* * * * * * *
155.9925 | ......do | 27 | PX
* * * * * * *
156.0075 | ......do | 27 | PX
* * * * * * *
156.0225 | ......do | 27 | PX
* * * * * * *
156.0375 | ......do | 27 | PP
* * * * * * *
156.0525 | ......do | 27, 42 | PP
* * * * * * *
156.0675 | ......do | 27, 42 | PH
* * * * * * *
156.0825 | ......do | 27 | PH
* * * * * * *
156.0975 | ......do | 27 | PP
* * * * * * *
156.1125 | ......do | 27 | PH
* * * * * * *
156.1275 | ......do | 27 | PP
* * * * * * *
156.1425 | ......do | 27 | PH
* * * * * * *
156.1575 | ......do | 27 | PP
* * * * * * *
156.1725 | ......do | 27, 42, 43 | PH
* * * * * * *
156.1875 | ......do | 27, 42, 43 | PH
* * * * * * *
156.2025 | ......do | 27, 43 | PH
* * * * * * *
156.2175 | ......do | 27 | PP
* * * * * * *
156.2325 | ......do | 27, 43 | PH
* * * * * * *
158.7375 | ......do | 27, 80 | PP
* * * * * * *
158.7525 | ......do | 27 | PX
* * * * * * *
158.7675 | ......do | 27 | PX
* * * * * * *
158.7825 | ......do | 27 | PX
* * * * * * *
158.7975 | ......do | 27 | PP
* * * * * * *
158.8125 | ......do | 27 | PX
* * * * * * *
158.8425 | ......do | 27 | PX
* * * * * * *
158.8575 | ......do | 27 | PP
* * * * * * *
158.8725 | ......do | 27 | PX
* * * * * * *
158.9025 | ......do | 27 | PX
* * * * * * *
158.9175 | ......do | 27 | PP
* * * * * * *
158.9325 | ......do | 27 | PX
* * * * * * *
158.9625 | ......do | 27 | PX
* * * * * * *
158.9775 | ......do | 27 | PP
* * * * * * *
158.9925 | ......do | 27, 43 | PH
* * * * * * *
159.0075 | ......do | 27, 43 | PH
* * * * * * *
159.0225 | ......do | 27, 43 | PH
* * * * * * *
159.0375 | ......do | 27 | PP
* * * * * * *
159.0525 | ......do | 27, 43 | PH
* * * * * * *
159.0675 | ......do | 27, 43 | PH
* * * * * * *
159.0825 | ......do | 27, 43 | PH
* * * * * * *
159.0975 | ......do | 27 | PP
* * * * * * *
159.1125 | ......do | 27, 43 | PH
* * * * * * *
159.1275 | ......do | 27, 43 | PH
* * * * * * *
159.1425 | ......do | 27, 43 | PH
* * * * * * *
159.1575 | ......do | 27 | PP
* * * * * * *
159.1725 | ......do | 27, 43 | PH
* * * * * * *
159.1875 | ......do | 27 | PH
* * * * * * *
159.2025 | ......do | 27 | PH
* * * * * * *
159.2175 | ......do | 27 | PP
* * * * * * *
159.2325 | ......do | 27 | PO
* * * * * * *
159.2475 | ......do | 27, 46 | PO
* * * * * * *
159.2625 | ......do | 27, 46 | PO
* * * * * * *
159.2775 | ......do | 27, 46 | PO
* * * * * * *
159.2925 | ......do | 27, 46 | PO
* * * * * * *
159.3075 | ......do | 27, 46 | PO
* * * * * * *
159.3225 | ......do | 27, 46 | PO
* * * * * * *
159.3375 | ......do | 27, 46 | PO
* * * * * * *
159.3525 | ......do | 27, 46 | PO
* * * * * * *
159.3675 | ......do | 27, 46 | PO
* * * * * * *
159.3825 | ......do | 27, 46 | PO
* * * * * * *
159.3975 | ......do | 27, 46 | PO
* * * * * * *
159.4125 | ......do | 27, 46 | PO
* * * * * * *
159.4275 | ......do | 27, 46 | PO
* * * * * * *
159.4425 | ......do | 27, 46 | PO
* * * * * * *
159.4575 | ......do | 27 | PO
* * * * * * *
159.4725 | ......do | 27, 80 | PO
* * * * * * *

* * * * *

(d) * * *

(27) This frequency will be assigned with an authorized bandwidth not to exceed 11.25 kHz. In the 450-470 MHz band, secondary telemetry operations pursuant to § 90.238(e) will be authorized on this frequency.

* * * * *

(30) This frequency will be authorized a channel bandwidth of 25 kHz.

* * * * *

3. Section 90.35 is amended by revising the following entries to the table in paragraph (b)(3) and by revising paragraphs (c)(29) and (c)(30) to read as follows:

§ 90.35 Industrial/Business Pool.

* * * * *

(b) * * *

(3) * * *

Industrial/Business Pool Frequency Table
Frequency or band | Class of station(s) | Limitations | Coordinator
* * * * * * *
150.8525 | ......do | 30 | LA
* * * * * * *
150.8675 | ......do | 30 | LA
* * * * * * *
150.8825 | ......do | 30 | LA
* * * * * * *
150.8975 | ......do | 30 | LA
* * * * * * *
150.9425 | ......do | 30 | LA
* * * * * * *
150.9575 | ......do | 30 | LA
* * * * * * *
150.9725 | ......do | 30 | LA
* * * * * * *
150.9875 | ......do | 8, 30 | IP
* * * * * * *
151.0025 | ......do | 30, 31 |
* * * * * * *
151.0175 | ......do | 30, 31 |
* * * * * * *
151.0325 | ......do | 30, 31 |
* * * * * * *
151.0475 | ......do | 30, 31 |
* * * * * * *
151.0925 | ......do | 30, 31 |
* * * * * * *
151.1075 | ......do | 30, 31 |
* * * * * * *
151.1225 | ......do | 30, 31 |
* * * * * * *
151.1375 | ......do | 30, 31 |
* * * * * * *
151.1525 | ......do | 30, 31 |
* * * * * * *
151.1675 | ......do | 30, 31 |
* * * * * * *
151.2125 | ......do | 30, 31 |
* * * * * * *
151.2275 | ......do | 30, 31 |
* * * * * * *
151.2425 | ......do | 30, 31 |
* * * * * * *
151.2575 | ......do | 30, 31 |
* * * * * * *
151.2725 | ......do | 30, 31 |
* * * * * * *
151.2875 | ......do | 30, 31 |
* * * * * * *
151.3325 | ......do | 30, 31 |
* * * * * * *
151.3475 | ......do | 30, 31 |
* * * * * * *
151.3625 | ......do | 30, 31 |
* * * * * * *
151.3775 | ......do | 30, 31 |
* * * * * * *
151.3925 | ......do | 30, 31 |
* * * * * * *
151.4075 | ......do | 30, 31 |
* * * * * * *
151.4225 | ......do | 30, 31 |
* * * * * * *
151.4375 | ......do | 30, 31 |
* * * * * * *
151.4525 | ......do | 30, 31 |
* * * * * * *
151.4675 | ......do | 30, 31 |
* * * * * * *
151.4825 | ......do | 30, 31 |
* * * * * * *
151.4975 | ......do | 30, 32 |
* * * * * * *
151.5125 | ......do | 17, 30 |
* * * * * * *
151.5275 | ......do | 30 |
* * * * * * *
151.5425 | ......do | 30 |
* * * * * * *
151.5575 | ......do | 30 |
* * * * * * *
151.5725 | ......do | 30 |
* * * * * * *
151.5875 | ......do | 30 |
* * * * * * *
151.6025 | ......do | 30 |
* * * * * * *
151.6475 | ......do | 30 |
* * * * * * *
151.6625 | ......do | 30 |
* * * * * * *
151.670 | ......do | 30 |
151.6775 | ......do | 30 |
* * * * * * *
151.700 | ......do | 10, 30, 34 |
* * * * * * *
151.7225 | ......do | 30 |
151.730 | ......do | 30 |
151.7375 | ......do | 30 |
* * * * * * *
151.760 | ......do | 10, 30, 34 |
* * * * * * *
151.7825 | ......do | 30 |
151.790 | ......do | 30 |
151.7975 | ......do | 30 |
* * * * * * *
151.8425 | ......do | 30 |
151.850 | ......do | 30 |
151.8575 | ......do | 30 |
* * * * * * *
151.9025 | ......do | 30 |
151.910 | ......do | 30 |
151.9175 | ......do | 30 |
* * * * * * *
151.9625 | ......do | 30 |
151.970 | ......do | 30 |
151.9775 | ......do | 30 |
* * * * * * *
151.2775 | ......do | 6, 30 |
* * * * * * *
152.2925 | ......do | 6, 30 |
* * * * * * *
152.3075 | ......do | 6, 30 |
* * * * * * *
152.3225 | ......do | 6, 30 |
* * * * * * *
152.3375 | ......do | 6, 30 |
* * * * * * *
152.3525 | ......do | 6, 30 |
* * * * * * *
152.3675 | ......do | 6, 30 |
* * * * * * *
152.3825 | ......do | 6, 30 |
* * * * * * *
152.3975 | ......do | 6, 30 |
* * * * * * *
152.4125 | ......do | 6, 30 |
* * * * * * *
152.4275 | ......do | 6, 30 |
* * * * * * *
152.4425 | ......do | 6, 30 |
* * * * * * *
152.4575 | ......do | 6, 30 |
* * * * * * *
152.8775 | ......do | 30 |
* * * * * * *
152.8925 | ......do | 30 |
* * * * * * *
152.9075 | ......do | 30 |
* * * * * * *
152.9225 | ......do | 30 |
* * * * * * *
152.9375 | ......do | 30 |
* * * * * * *
152.9525 | ......do | 30 |
* * * * * * *
152.9675 | ......do | 30 |
* * * * * * *
152.9825 | ......do | 30 |
* * * * * * *
152.9975 | ......do | 30
* * * * * * *
153.0125 | ......do | 30
* * * * * * *
153.0275 | ......do | 30
* * * * * * *
153.0425 | ......do | 30
* * * * * * *
153.0575 | ......do | 4, 7, 30
* * * * * * *
153.0725 | ......do | 30
* * * * * * *
153.0875 | ......do | 4, 7, 30
* * * * * * *
153.1025 | ......do | 30, 80
* * * * * * *
153.1175 | ......do | 4, 7, 30
* * * * * * *
153.1325 | ......do | 30
* * * * * * *
153.1475 | ......do | 4, 7, 30
* * * * * * *
153.1625 | ......do | 30
* * * * * * *
153.1775 | ......do | 4, 7, 30
* * * * * * *
153.1925 | ......do | 30
* * * * * * *
153.2075 | ......do | 4, 7, 30
* * * * * * *
153.2225 | ......do | 30
* * * * * * *
153.2375 | ......do | 4, 7, 30
* * * * * * *
153.2525 | ......do | 30
* * * * * * *
153.2625 | ......do | 4, 7, 30
* * * * * * *
153.2825 | ......do | 30
* * * * * * *
153.2975 | ......do | 4, 7, 30
* * * * * * *
153.3125 | ......do | 30
* * * * * * *
153.3275 | ......do | 4, 7, 30
* * * * * * *
153.3425 | ......do | 30
* * * * * * *
153.3575 | ......do | 4, 7, 30
* * * * * * *
153.3725 | ......do | 30
* * * * * * *
153.3875 | ......do | 30
* * * * * * *
153.4025 | ......do | 30
* * * * * * *
153.4175 | ......do | 30 | IW
* * * * * * *
153.4325 | ......do | 30, 80 | IP, IW
* * * * * * *
153.4475 | ......do | 30, 80 | IP, IW
* * * * * * *
153.4625 | ......do | 30, 80 | IP, IW
* * * * * * *
153.4775 | ......do | 30 | IW
* * * * * * *
153.4925 | ......do | 30, 80 | IP, IW
* * * * * * *
153.5075 | ......do | 30, 80 | IP, IW
* * * * * * *
153.5225 | ......do | 30, 80 | IP, IW
* * * * * * *
153.5375 | ......do | 30 | IW
* * * * * * *
153.5525 | ......do | 30, 80 | IP, IW
153.560 | ......do | 30, 80 | IP, IW
153.5675 | ......do | 30, 80 | IP, IW
* * * * * * *
153.5825 | ......do | 30, 80 | IP, IW
* * * * * * *
153.5975 | ......do | 30 | IW
* * * * * * *
153.6125 | ......do | 30, 80 | IP, IW
* * * * * * *
153.6275 | ......do | 30, 80 | IP, IW
* * * * * * *
153.6425 | ......do | 30, 80 | IP, IW
* * * * * * *
153.6575 | ......do | 30, 80 | IW
* * * * * * *
153.6725 | ......do | 30, 80 | IP, IW
* * * * * * *
153.6875 | ......do | 30, 80 | IP, IW
* * * * * * *
153.7025 | ......do | 30 | IW
* * * * * * *
153.7175 | ......do | 30 | IW
* * * * * * *
153.7325 | ......do | 30 | IW
* * * * * * *
154.4825 | Base or Mobile | 30
* * * * * * *
154.4975 | ......do | 30
154.505 | ......do | 30
* * * * * * *
154.5275 | Mobile | 10, 30, 34
* * * * * * *
154.5475 | ......do | 30
* * * * * * *
154.640 | Base | 30, 36, 37, 48
* * * * * * *
157.4775 | ......do | 12, 30 | LA
* * * * * * *
157.4925 | ......do | 12, 30 | LA
* * * * * * *
157.5075 | ......do | 12, 30 | LA
* * * * * * *
157.5225 | ......do | 12, 30 | LA
* * * * * * *
157.5375 | ......do | 6, 30
* * * * * * *
157.5525 | ......do | 6, 30.
* * * * * * *
157.5675 | ......do | 6, 30
* * * * * * *
157.5825 | ......do | 6, 30
* * * * * * *
157.5975 | ......do | 6, 30
* * * * * * *
157.6125 | ......do | 6, 30
* * * * * * *
157.6275 | ......do | 6, 30
* * * * * * *
157.6425 | ......do | 6, 30
* * * * * * *
157.6575 | ......do | 6, 30
* * * * * * *
157.6725 | ......do | 6, 30
* * * * * * *
157.6875 | ......do | 6, 30
* * * * * * *
157.7025 | ......do | 6, 30
* * * * * * *
157.7175 | ......do | 6, 30
* * * * * * *
158.1375 | ......do | 6, 30 | IW
* * * * * * *
158.1525 | ......do | 6, 30 | IP, IW
* * * * * * *
158.1675 | ......do | 6, 30 | IP, IW
* * * * * * *
158.1825 | ......do | 30, 81 | IP, IW
* * * * * * *
158.1975 | ......do | 30 | IW
* * * * * * *
158.2125 | ......do | 30, 81 | IP, IW
* * * * * * *
158.2275 | ......do | 30, 81 | IP, IW
* * * * * * *
158.2425 | ......do | 30, 81 | IP, IW
* * * * * * *
158.2575 | ......do | 30 | IW
* * * * * * *
158.2725 | ......do | 30, 81 | IP, IW
* * * * * * *
158.2875 | ......do | 30 | IP
* * * * * * *
158.3025 | ......do | 30 | IP
* * * * * * *
158.3175 | ......do | 4, 7, 30 | IP
* * * * * * *
158.3325 | ......do | 30 | IP
* * * * * * *
158.3475 | ......do | 30
* * * * * * *
158.3625 | ......do | 30 | IP
* * * * * * *
158.3775 | ......do | 4, 7, 30 | IP
* * * * * * *
158.3925 | ......do | 30
* * * * * * *
158.4075 | ......do | 17, 30
* * * * * * *
158.4225 | ......do | 30 | IP
* * * * * * *
158.4375 | ......do | 4, 7, 30 | IP
* * * * * * *
159.4875 | ......do | 8, 30 | IP
* * * * * * *
159.5025 | ......do | 30
* * * * * * *
159.5175 | ......do | 30
* * * * * * *
159.5325 | ......do | 30
* * * * * * *
159.5475 | ......do | 30
* * * * * * *
159.5625 | ......do | 30
* * * * * * *
159.5775 | ......do | 30
* * * * * * *
159.5925 | ......do | 30
* * * * * * *
159.6075 | ......do | 30
* * * * * * *
159.6225 | ......do | 30
* * * * * * *
159.6375 | ......do | 30
* * * * * * *
159.6525 | ......do | 30
* * * * * * *
159.6675 | ......do | 30
* * * * * * *
159.6825 | ......do | 30
* * * * * * *
159.6975 | ......do | 30
* * * * * * *
159.7125 | ......do | 30
* * * * * * *
159.7275 | ......do | 30
* * * * * * *
159.7425 | ......do | 30
* * * * * * *
159.7575 | ......do | 30
* * * * * * *
159.7725 | ......do | 30
* * * * * * *
159.7875 | ......do | 30
* * * * * * *
159.8025 | ......do | 30
* * * * * * *
159.8175 | ......do | 30
* * * * * * *
159.8325 | ......do | 30
* * * * * * *
159.8475 | ......do | 30
* * * * * * *
159.8625 | ......do | 30
* * * * * * *
159.8775 | ......do | 30
* * * * * * *
159.8925 | ......do | 30
* * * * * * *
159.9075 | ......do | 30
* * * * * * *
159.9225 | ......do | 30
* * * * * * *
159.9375 | ......do | 30
* * * * * * *
159.9525 | ......do | 30
* * * * * * *
159.9675 | ......do | 30
* * * * * * *
159.9825 | ......do | 30
* * * * * * *
159.9975 | ......do | 30
* * * * * * *
160.0125 | ......do | 30
* * * * * * *
160.0275 | ......do | 30
* * * * * * *
160.0425 | ......do | 30
* * * * * * *
160.0575 | ......do | 30
* * * * * * *
160.0725 | ......do | 30
* * * * * * *
160.0875 | ......do | 30
* * * * * * *
160.1025 | ......do | 30
* * * * * * *
160.1175 | ......do | 30
* * * * * * *
160.1325 | ......do | 30
* * * * * * *
160.1475 | ......do | 30
* * * * * * *
160.1625 | ......do | 30
* * * * * * *
160.1775 | ......do | 30
* * * * * * *
160.1925 | ......do | 30
* * * * * * *
160.2075 | ......do | 30
* * * * * * *
160.2225 | ......do | 30, 50 | LR
* * * * * * *
160.2375 | ......do | 30, 50 | LR
* * * * * * *
160.2525 | ......do | 30, 50 | LR
* * * * * * *
160.2675 | ......do | 30, 50 | LR
* * * * * * *
160.2825 | ......do | 30, 50 | LR
* * * * * * *
160.2975 | ......do | 30, 50 | LR
* * * * * * *
160.3125 | ......do | 30, 50 | LR
* * * * * * *
160.3275 | ......do | 30, 50 | LR
* * * * * * *
160.3425 | ......do | 30, 50 | LR
* * * * * * *
160.3575 | ......do | 30, 50 | LR
* * * * * * *
160.3725 | ......do | 30, 50 | LR
* * * * * * *
160.3875 | ......do | 30, 50 | LR
* * * * * * *
160.4025 | ......do | 30, 50 | LR
* * * * * * *
160.4175 | ......do | 30, 50, 52 | LR
* * * * * * *
160.4325 | ......do | 30, 50, 52 | LR
* * * * * * *
160.4475 | ......do | 30, 50, 52 | LR
* * * * * * *
160.4625 | ......do | 30, 50, 52 | LR
* * * * * * *
160.4775 | ......do | 30, 50, 52 | LR
* * * * * * *
160.4925 | ......do | 30, 50, 52 | LR
* * * * * * *
160.5075 | ......do | 30, 50, 52 | LR
* * * * * * *
160.5225 | ......do | 30, 50, 52 | LR
* * * * * * *
160.5375 | ......do | 30, 50, 52 | LR
* * * * * * *
160.5525 | ......do | 30, 50, 52 | LR
* * * * * * *
160.5675 | ......do | 30, 50, 52 | LR
* * * * * * *
160.5825 | ......do | 30, 50, 52 | LR
* * * * * * *
160.5975 | ......do | 30, 50, 52 | LR
* * * * * * *
160.6125 | ......do | 30, 50, 52 | LR
* * * * * * *
160.6275 | ......do | 30, 50 | LR
* * * * * * *
160.6475 | ......do | 30, 50 | LR
* * * * * * *
160.6575 | ......do | 30, 50 | LR
* * * * * * *
160.6725 | ......do | 30, 50 | LR
* * * * * * *
160.6875 | ......do | 30, 50 | LR
* * * * * * *
160.7175 | ......do | 30, 50 | LR
* * * * * * *
160.7325 | ......do | 30, 50 | LR
* * * * * * *
160.7475 | ......do | 30, 50 | LR
* * * * * * *
160.7625 | ......do | 30, 50 | LR
* * * * * * *
160.7775 | ......do | 30, 50 | LR
* * * * * * *
160.7925 | ......do | 30, 50 | LR
* * * * * * *
160.8075 | ......do | 30, 50 | LR
* * * * * * *
160.8225 | ......do | 30, 50 | LR
* * * * * * *
160.8375 | ......do | 30, 50 | LR
* * * * * * *
160.8525 | ......do | 30, 50 | LR
* * * * * * *
160.8675 | ......do | 30, 50, 51 | LR
* * * * * * *
160.8825 | ......do | 30, 50, 51 | LR
* * * * * * *
160.8975 | ......do | 30, 50, 51 | LR
* * * * * * *
160.9125 | ......do | 30, 50, 51 | LR
* * * * * * *
160.9275 | ......do | 30, 50, 52 | LR
* * * * * * *
160.9425 | ......do | 30, 50, 51 | LR
* * * * * * *
160.9575 | ......do | 30, 50, 51 | LR
* * * * * * *
160.9725 | ......do | 30, 50, 51 | LR
* * * * * * *
160.9875 | ......do | 30, 50, 51 | LR
* * * * * * *
161.0025 | ......do | 30, 50, 51 | LR
* * * * * * *
161.0175 | ......do | 30, 50, 51 | LR
* * * * * * *
161.0475 | ......do | 30, 50, 51 | LR
* * * * * * *
161.0625 | ......do | 30, 50, 51 | LR
* * * * * * *
161.0775 | ......do | 30, 50, 51 | LR
* * * * * * *
161.0925 | ......do | 30, 50, 51 | LR
* * * * * * *
161.1075 | ......do | 30, 50, 51 | LR
* * * * * * *
161.1225 | ......do | 30, 50, 51 | LR
* * * * * * *
161.1375 | ......do | 30, 50, 51 | LR
* * * * * * *
161.1525 | ......do | 30, 50, 51 | LR
* * * * * * *
161.1675 | ......do | 30, 50, 51 | LR
* * * * * * *
161.1825 | ......do | 30, 50, 51 | LR
* * * * * * *
161.1975 | ......do | 30, 50, 51 | LR
* * * * * * *
161.2125 | ......do | 30, 50, 51 | LR
* * * * * * *
161.2275 | ......do | 30, 50, 51 | LR
* * * * * * *
161.2425 | ......do | 30, 50, 51 | LR
* * * * * * *
161.2575 | ......do | 30, 50, 51 | LR
* * * * * * *
161.2725 | ......do | 30, 50, 51 | LR
* * * * * * *
161.2875 | ......do | 30, 50, 51 | LR
* * * * * * *
161.3025 | ......do | 30, 50, 51 | LR
* * * * * * *
161.3175 | ......do | 30, 50, 51 | LR
* * * * * * *
161.3325 | ......do | 30, 50, 51 | LR
* * * * * * *
161.3475 | ......do | 30, 50, 51 | LR
* * * * * * *
161.3625 | ......do | 30, 50, 51 | LR
* * * * * * *
161.3775 | ......do | 30, 50, 51 | LR
* * * * * * *
161.3925 | ......do | 30, 50, 52 | LR
* * * * * * *
161.4075 | ......do | 30, 50, 52 | LR
* * * * * * *
161.4225 | ......do | 30, 50, 52 | LR
* * * * * * *
161.4375 | ......do | 30, 50, 52 | LR
* * * * * * *
161.4525 | ......do | 30, 50, 52 | LR
* * * * * * *
161.4675 | ......do | 30, 50, 52 | LR
* * * * * * *
161.4825 | ......do | 30, 50, 52 | LR
* * * * * * *
161.4975 | ......do | 30, 50, 52 | LR
* * * * * * *
161.5125 | ......do | 30, 50, 52 | LR
* * * * * * *
161.5275 | ......do | 30, 50, 52 | LR
* * * * * * *
161.5425 | ......do | 30, 50, 52 | LR
* * * * * * *
161.5575 | ......do | 30, 50, 52 | LR

* * * * *

(c) * * *

(29) This frequency will be authorized a channel bandwidth of 25 kHz. Except when limited elsewhere, one-way paging transmitters on this frequency may operate with an output power of 350 watts.

(30) This frequency will be assigned with an authorized bandwidth not to exceed 11.25 kHz. In the 450-470 MHz band, secondary telemetry operations pursuant to § 90.238(e) will be authorized on this frequency.

* * * * *

4. Section 90.203 is amended by redesignating paragraphs (j)(6) through (j)(10) as paragraphs (j)(7) through (j) (11) and by revising paragraphs (j)(2) introductory text, (j)(3), (j)(4)(ii) and newly redesignated paragraphs (j)(8) and (j)(11) and by adding new paragraphs (j)(4)(iii), (j)(4)(iv), (j)(6), and (j)(6)(i) through (j)(6)(iii) to read as follows:

§ 90.203 Certification required.

* * * * *

(j) * * *

(2) Applications for certification received on or after February 14, 1997 but before January 1, 2005 will only be granted for equipment with the following channel bandwidths:

* * * * *

(3) Applications for part 90 certification of transmitters designed to operate on frequencies in the 150.8-162.0125 MHz, 173.2-173.4 MHz, and/or 421-512 MHz bands, received on or after February 14, 1997 must include a certification that the equipment meets a spectrum efficiency standard of one voice channel per 12.5 kHz of channel bandwidth. Additionally, if the equipment is capable of transmitting data, has transmitter output power greater than 500 mW, and has a channel bandwidth of more than 6.25 kHz, the equipment must be capable of supporting a minimum data rate of 4800 bits per second per 6.25 kHz of channel bandwidth.

* * * * *

(4) * * *

(ii) 12.5 kHz for multi-bandwidth mode equipment with a maximum channel bandwidth of 12.5 kHz if it is capable of operating on channels of 6.25 kHz or less;

(iii) 25 kHz for multi-bandwidth mode equipment with a maximum channel bandwidth of 25 kHz if it is capable of operating on channels of 6.25 kHz or less; and

(iv) Up to 25 kHz if the equipment meets the efficiency standard of paragraph (j)(5) of this section.

* * * * *

(6) Applications for certification received on or after January 1, 2011, except for hand-held transmitters with an output power of two watts or less, will only be granted for equipment with the following channel bandwidths:

(i) 6.25 kHz or less for single bandwidth mode equipment;

(ii) 12.5 kHz for multi-bandwidth mode equipment with a maximum channel bandwidth of 12.5 kHz if it is capable of operating on channels of 6.25 kHz or less; and

(iii) Up to 25 kHz if the equipment meets the efficiency standard of paragraph (j)(5) of this section.

* * * * *

(8) Transmitters designed only for one-way paging operations may be certificated with up to a 25 kHz bandwidth and are exempt from the spectrum efficiency requirements of paragraphs (j)(3) and (j)(5) of this section.

* * * * *

(11) Except as provided in this paragraph, single-mode and multi-mode transmitters designed to operate in the 150-174 MHz and 421-512 MHz bands that operate with a maximum channel bandwidth greater than 12.5 kHz shall not be manufactured in, or imported into, the United States after January 1, 2011, except as follows:

(i) To the extent that the equipment meets the efficiency standard of paragraph (j)(3) of this section, or

(ii) Where operation with a bandwidth greater than 12.5 kHz is specified elsewhere.

* * * * *

5. Section 90.209 is amended by revising footnote 3 immediately following the table in paragraph (b)(5) and by revising paragraph (b)(6) to read as follows:

§ 90.209 Bandwidth limitation.

* * * * *

(b) * * *

(5) * * *

Standard Channel Spacing/Bandwidth
Frequency band (MHz) | Channel spacing (kHz) | Authorized bandwidth (kHz)
* * * * * * *

* * * * *

³ Operations using equipment using a 25 kHz bandwidth will be authorized a 20 kHz bandwidth. Operations using equipment designed to operate with a 12.5 kHz channel bandwidth will be authorized an 11.25 kHz bandwidth. Operations using equipment designed to operate with a 6.25 kHz channel bandwidth will be authorized a 6 kHz bandwidth. All stations must operate on channels with a bandwidth of 12.5 kHz or less beginning January 1, 2013, unless the operations meet the efficiency standard of § 90.203(j)(3) unless specified elsewhere.

* * * * *

(6)(i) Beginning January 1, 2011, no new applications for the 150-174 MHz and/or 421-512 MHz bands will be acceptable for filing if the applicant utilizes channels with an authorized bandwidth exceeding 11.25 kHz, unless specified elsewhere or the operations meet the efficiency standards of § 90.203(j)(3).

(ii) Beginning January 1, 2011, no modification applications for stations in the 150-174 MHz and/or 421-512 MHz bands that increase the station's authorized interference contour, will be acceptable for filing if the applicant utilizes channels with an authorized bandwidth exceeding 11.25 kHz, unless specified elsewhere or the operations meet the efficiency standards of § 90.203(j)(3). See § 90.187(b)(2)(iii) and (iv) for interference contour designations and calculations. Applications submitted pursuant to this paragraph must comply with frequency coordination requirements of § 90.175.

[FR Doc. 05-11477 Filed 6-14-05; 8:45 am]

BILLING CODE 6712-01-P